DEPARTMENT OF DEFENSE

Office of the Secretary

Department of Defense Military Family Readiness Council; Notice of Federal Advisory Committee Meeting

AGENCY: Under Secretary of Defense for Personnel and Readiness, Department of Defense.

ACTION: Notice of Federal Advisory Committee meeting.

SUMMARY: The Department of Defense (DoD) is publishing this notice to announce that the following Federal Advisory Committee meeting of the Department of Defense Military Family Readiness Council will take place. This meeting is not a Town Hall meeting but is open to the public for the purpose of observing Council proceedings, guest speaker presentations, and Council deliberations.

DATES: Tuesday, March 6, 2018 from 1:00 p.m. to 3:00 p.m.

ADDRESSES: 1155 Defense Pentagon PLC2 Pentagon Library and Conference Center, Room B6, Washington, DC 20301.

FOR FURTHER INFORMATION CONTACT: Dr. Randy Eltringham, (571) 372-5315 (Voice), (571) 372-0884 (Facsimile), OSD Pentagon OUSD P-R Mailbox Family Readiness Council, osd.pentagon.ousd-p-r.mbx.family-readiness-council@mail.mil (Email). Mailing address is Office of the Deputy Assistant Secretary of Defense (Military Community & Family Policy), Office of Family Readiness Policy, 4800 Mark Center Drive, Alexandria, VA 22350-2300, Room 3G15. Website: http://www.militaryonesource.mil/those-who-support-mfrc. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: This is the second meeting of the Council for Fiscal Year 2018 (FY2018). During this meeting, Council members will receive status updates on three FY2017 Recommendations for Immediate Action. They will also review and deliberate about two FY2018 focus areas: (1) Child and Youth Well-being; and (2) Spouse Licensure.

Agenda: Opening Remarks, Administrative Announcements, Review of Written Public Submissions, Status Updates on FY2017 Recommendations for Immediate Action: Interstate Compact on Educational Opportunity for Military Children; Integration and Coordination of Medical, Education and Family Support Services for Special Needs Families; and Blended Retirement System and Financial Literacy. FY2018 Focus Areas: Child and Youth Well-being; and Spouse Licensure. Closing Remarks. Note: Exact order may vary.

Meeting Accessibility: This meeting is open to the public, subject to the availability of space. Members of the public who are entering the Pentagon should arrive at the Pentagon Visitors Center waiting area (Pentagon Metro Entrance) no later than 12:00 p.m. on the day of the meeting to allow time to pass through security check points and be escorted to the meeting location. Members of the public are asked to email their RSVP to the Council at osd.pentagon.ousd-p-r.mbx.family-readiness-council@mail.mil no later than 5:00 p.m. on Monday, February 26, 2018 to confirm seating availability and to request an escort or handicapped accessible transportation from the Pentagon Visitors Center to the meeting location.

Written Statements: Persons interested in providing a written statement for review and consideration by Council members attending the March 6, 2018 meeting must do so no later than close of business Monday, February 12, 2018, through the Council mailbox at osd.pentagon.ousd-p-r.mbx.family-readiness-council@mail.mil. Any written statements received after this date will be provided to Council members in preparation for the final Council meeting of FY2018. The DFO will review all timely submissions and ensure submitted written statements are provided to Council members two weeks prior to the meeting that is subject to this notice. Written statements must not be longer than two type-written pages and should address the following details: Issue or concern, discussion, and a recommended course of action. Those who make submissions are requested to avoid including personal identifiable information (PII) such as names of adults and children, phone numbers, addresses, social security numbers, and other contact information within the body of the written statement. Links or brief summaries of supplemental supporting documentation may also be included, if needed, to provide appropriate historical context and background information.

Dated: January 23, 2018.
Aaron Siegel,
Alternate OSD Federal Register Liaison Officer, Department of Defense.

[FR Doc. 2018-01465 Filed 1-25-18; 8:45 am]

BILLING CODE 5001-06-P